DEPARTMENT OF VETERANS AFFAIRS

[OMB Control No. 2900-0160]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine whether State homes providing nursing home care and adult day health care are providing high quality care to eligible veterans.

DATES: Written comments and recommendations on the proposed collection of information should be received on or before July 7, 2003.

ADDRESSES: Submit written comments on the collection of information to Ann Bickoff, Veterans Health Administration (193B1), Department of Veterans Affairs, 810 Vermont Avenue, NW., Washington, DC 20420 or e-mail ann.bickoff@mail.va.gov. Please refer to “OMB Control No. 2900-0160” in any correspondence.

FOR FURTHER INFORMATION CONTACT: Ann Bickoff at (202) 273-8310.

SUPPLEMENTARY INFORMATION: Under the PRA of 1995 (Pub. L. 104-13; 44 U.S.C. 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. State Home Inspection, VA Form 10-3567.

b. Instructions for State Home Report and Statement of Federal Aid Claimed, VA Form 10-5588.

c. State Home Program Application for Veterans Care—Medical Certification, VA Form 10-10SH.

d. Department of Veterans Affairs Certification Regarding Drug-Free Workplace Requirements for Grantees Other Than Individuals, VA Form 10-0143.

e. Statement of Assurance of Compliance with Section 504 of the Rehabilitation Act of 1973, VA Form 10-1043A.

f. Certification Regarding Lobbying, VA Form 10-0144.

g. Statement of Assurance of Compliance With Equal Opportunity Law, VA Form 10-144A.

h. Per Diem for Adult Day Health Care of Veterans in State Homes, 38 CFR Part 52.

OMB Control Number: 2900-0160.

Type of Review: Extension of a currently approved collection.

Abstract: VA pays per diem to State homes providing adult day health care to eligible veterans. To ensure high quality care is furnished to the veterans, VA requires those facilities providing adult day health care to furnish an application for recognition based on certification; appeal information, application and justification for payment; records and reports which facility management must maintain regarding activities of residents or participants; information relating to whether the facility meets standards concerning residents' rights and responsibilities prior to admission or enrollment, during admission or enrollment, and upon discharge; the records and reports which facilities management and health care professionals must maintain regarding residents or participants and employees; documents pertain to the management of the facilities; food menu planning; pharmaceutical records; and life safety documentation. This information is necessary to ensure that VA per diem payments are limited to facilities providing high quality care to eligible veterans.

Affected Public: State, local or tribal government, individuals or households, and not for profit institutions.

Estimated Total Annual Burden: 15,886 hours.

a. State Home Inspection, VA Form 10-3567—86 hours.

b. Instructions for State Home Report and Statement of Federal Aid Claimed, VA Form 10-5588—1,026 hours.

c. State Home Program Application for Veterans Care—Medical Certification, VA Form 10-10SH—10,565 hours.

d. Department of Veterans Affairs Certification Regarding Drug-Free Workplace Requirements for Grantees Other Than Individuals, VA Form 10-0143—21 hours.

e. Statement of Assurance of Compliance With Section 504 of the Rehabilitation Act of 1973, VA Form 10-1043A—21 hours.

f. Certification Regarding Lobbying, VA Form 10-0144—21 hours.

g. Statement of Assurance of Compliance with Equal Opportunity Law, VA Form 10-144A—21 hours.

h. Per Diem for Adult Day Health Care of Veterans in State Homes, 38 CFR Part 52—4,125 hours.

Estimated Average Burden Per Respondent:

a. State Home Inspection, VA Form 10-3567—30 minutes.

b. Instructions for state Home Report and Statement of Federal Aid Claimed, VA Form 10-5588—30 minutes.

c. State Home Program Application for Veterans Care—Medical Certification, VA Form 10-10SH—30 minutes.

d. Department of Veterans Affairs Certification Regarding Drug-Free Workplace Requirements for Grantees Other Than Individuals, VA Form 10-0143—7 minutes.

e. Statement of Assurance of Compliance With Section 504 of the Rehabilitation Act of 1973, VA Form 10-1043A—7 minutes.

f. Certification Regarding Lobbying, VA Form 10-0144—7 minutes.

g. Statement of Assurance of Compliance With Equal Opportunity Law, VA Form 10-144A—7 minutes.

h. Per Diem for Adult Day Health Care of Veterans in State Homes, 38 CFR Part 52—7 minutes.

Frequency of Response: On occasion.

Estimated Number of Respondents: 43,157.

a. State Home Inspection, VA Form 10-3567—171.

b. Instructions for State Home Report and Statement of Federal Aid Claimed, VA Form 10-5588—171.

c. State Home Program Application for Veterans Care—Medical Certification, VA Form 10-10SH—21,129.

d. Department of Veterans Affairs Certification Regarding Drug-Free Workplace Requirements for Grantees Other Than Individuals, VA Form 10-0143—171.

e. Statement of Assurance of Compliance With Section 504 of the Rehabilitation Act of 1973, VA Form 10-1043A—171.

f. Certification Regarding Lobbying, VA Form 10-0144—171.

g. Statement of Assurance of Compliance with Equal Opportunity Law, VA Form 10-144A—171.

h. Per Diem for Adult Day Health Care of Veterans in State Homes, 38 CFR Part 52—21,002.

Estimated Total Annual Responses: 45,521.

a. State Home Inspection, VA Form 10-3567—171.

b. Instructions for State Home Report and Statement of Federal Aid Claimed, VA Form 10-5588—2,052.

c. State Home Program Application for Veterans Care—Medical Certification, VA Form 10-10SH—21,129.

d. Department of Veterans Affairs Certification Regarding Drug-Free Workplace Requirements for Grantees Other Than Individuals, VA Form 10-0143—171.

e. Statement of Assurance of Compliance with Section 504 of the Rehabilitation Act of 1973, VA Form 10-1043A—171.

f. Certification Regarding Lobbying, VA Form 10-0144—171.

g. Statement of Assurance of Compliance with Equal Opportunity Law, VA Form 10-144A—171.

h. Per Diem for Adult Day Health Care of Veterans in State Homes, 38 CFR Part 52—21,485.

Dated: April 24, 2003.
By direction of the Secretary.
Jacqueline Parks,
IT Specialist, Records Management Service.

[FR Doc. 03-11206 Filed 5-5-03; 8:45 am]

BILLING CODE 8320-01-P